DEPARTMENT OF THE INTERIOR

Bureau of Reclamation

North San Pablo Bay Restoration and Reuse Project

AGENCY: Bureau of Reclamation, Interior.

ACTION: Notice of Availability of the Final Environmental Impact Report and Environmental Impact Statement (Final EIR/EIS).

SUMMARY: Pursuant to the National Environmental Policy Act (NEPA) and the California Environmental Quality Act (CEQA), the Bureau of Reclamation (Reclamation), the Federal lead agency, and Sonoma County Water Agency (SCWA), acting as project administrator of the North Bay Water Reuse Authority (NBWRA) and the State lead agency, have prepared a Final EIR/EIS for the implementation of the North San Pablo Bay Restoration and Reuse Project (Project), also referred to as the North Bay Water Recycling Program.

The purpose of the Project is to create a regional wastewater reuse project to provide recycled water for agricultural, urban, and environmental uses and to promote the expanded beneficial use of recycled water in the North Bay region. In this way, water demand issues and wastewater discharge issues of the region can be addressed in an integrated and synergistic manner. Implementation of the Project would include upgrades to treatment processes and construction of pipelines, pump station, and storage facilities to distribute recycled water for use in compliance with Article 4 in Title 22 of the California Code of Regulations, which sets water quality standards and treatment reliability criteria for recycled water. The Project may be partially Federally funded under Title XVI of Public Law 102-575, as amended, which provides a mechanism for Federal participation and cost sharing in approved water reuse projects, and also non-title XVI funds.

A Notice of Availability of the Draft EIR/EIS was published in the Federal Register on May 12, 2009 (74 FR 22175). The written comment period on the Draft EIR/EIS extended to July 20, 2009. The Final EIR/EIS contains responses to all comments received and reflects comments and any additional information received during the review period.

DATES: Reclamation will not make a decision on the Project until at least 30 days after the release of the Final EIR/EIS. After the 30-day consideration period, Reclamation will complete a Record of Decision (ROD). The ROD will state the action that will be implemented and will discuss all factors leading to the decision.

ADDRESSES: A compact disc or a copy of the Final EIR/EIS may be requested from Mr. Marc Bautista, SCWA, 404 Aviation Boulevard, Santa Rosa, CA 95403; by writing to the SCWA, P.O. Box 11628, Santa Rosa, CA 95406; by calling (707) 547-1998; or by e-mailing mbautista@scwa.ca.gov. The Final EIR/EIS is also available on the following Web site at http://www.usbr.gov/mp/nepa/nepa_projdetails.cfm?Project_ID=2157.

FOR FURTHER INFORMATION CONTACT: Mr. Marc Bautista, SCWA, 707-547-1998; mbautista@scwa.ca.gov, or Mr. Doug Kleinsmith, Reclamation, (916) 978-5034, TDD (916) 978-5608, or via e-mail at dkleinsmith@usbr.gov.

SUPPLEMENTARY INFORMATION: The NBWRA, established under a Memorandum of Understanding (MOU) in August 2005, is comprised of four wastewater utilities and one water agency in the North San Pablo Bay region of California. Participants include SCWA, Las Gallinas Valley Sanitary District (LGVSD), Novato Sanitary District (Novato SD), Sonoma Valley County Sanitation District (SVCSD), and Napa Sanitation District (Napa SD). In addition, North Marin Water District and the County of Napa are participating financially and providing support. NBWRA proposes to expand the use of recycled water and reduce discharge into San Pablo Bay with this long-term inter-agency project. The area encompasses 318 square miles of land in Marin, Sonoma, and Napa counties.

The North San Pablo Bay regions of Sonoma, Marin and Napa counties are facing long-term water supply shortfalls. Surface and groundwater supplies within these areas are limited, and some local groundwater basins are overpumped, with detrimental effects on water levels and water quality. Recycled water can augment local water supplies on a regional basis, provide water that meets agricultural and municipal nonpotable quality needs, and provide increased reliability.

Additionally, reliable water supply is needed in order to continue the restoration of tidal wetlands in San Pablo Bay that contain habitat for endangered and threatened species. Wastewater treatment agencies also face strict regulatory limits on the timing and quality of the treated wastewater they can discharge to San Pablo Bay, as well as the rivers and streams that flow to it. By treating wastewater to the stricter regulatory levels required for reuse, the agencies can recycle the water productively to address water supply needs and reduce the amount released to North San Pablo Bay and its tributaries. The project would provide recycled water for agricultural, urban, and environmental uses thereby reducing reliance on local and imported surface water and groundwater supplies and reducing the amount of treated effluent released to North San Pablo Bay and its tributaries. Some of the project benefits include reduction of wastewater discharge to regional waterways and the resulting environmental benefit to fish and wildlife.

The Project consists of distribution facilities, treatment capacity improvements, and storage to recover and reuse between 6,655 and 12,750 acre-feet per year of recycled water available for environmental, agricultural, and municipal reuse.

The Draft EIR/EIS was developed to provide the public and responsible and trustee agencies reviewing the Project an analysis of the potential effects, both beneficial and adverse, on the local and regional environment associated with construction and operation of the Project. The Draft EIR/EIS documented the direct, indirect, and cumulative effects to the physical, biological, and socioeconomic environment that may result from the Project.

The Draft EIR/EIS addressed potentially significant environmental issues and recommends adequate and feasible mitigation measures to reduce or eliminate significant environmental impacts. The Draft EIR/EIS examined three alternatives at an equal level of detail: Basic System, Partially Connected System, and Fully Connected System. The Phase I Implementation Plan for these alternatives was examined at a project level of detail. The Draft EIR/EIS also examined the No Project Alternative, No Action Alternative, and other Alternatives to the Proposed Action.

A series of public meetings on the Draft EIR/EIS were held in June 2009. Copies of the Final EIR/EIS are available for public review at the following locations:

• Bureau of Reclamation, Mid-Pacific Regional Office Library, 2800 Cottage Way, Sacramento, CA 95825.

• Sonoma County Water Agency, 404 Aviation Way, Santa Rosa, CA 95403.

• Las Gallinas Valley Sanitary District, 300 Smith Ranch Road, San Rafael, CA 94903.

• Novato Sanitary District, 500 Davidson Street, Novato, CA 94945.

• Napa Sanitation District, 935 Hartle Court, Napa, CA 94559.

• Sonoma Valley Regional Library, 755 West Napa St., Sonoma, CA 95476.

• Sonoma County Central Library, 211 E Street, Santa Rosa, CA 95404.

• Marin County—Novato Branch Library, 1720 Novato Blvd., Novato, CA 94947.

• Napa City—County Library, 580 Coombs Street, Napa, CA 94559.

• Marin County—Central Branch Library, 3501 Civic Center Drive #427, San Rafael, CA 94903.

Before including your name, address, phone number, e-mail address, or other personal identifying information in any correspondence, you should be aware that your entire correspondence, including your personal identifying information, may be made publicly available at any time. While you can request in your correspondence that Reclamation withhold your personal identifying information from public review, we cannot guarantee Reclamation is able to do so.

Dated: October 30, 2009.
Pablo R. Arroyave,
Deputy Regional Director, Mid-Pacific Region.

Editorial Note: This document was received in the Office of the Federal Register on June 2, 2010.

[FR Doc. 2010-13512 Filed 6-4-10; 8:45 am]

BILLING CODE 4310-MN-P